DEPARTMENT OF EDUCATION

RIN 1820 ZA24

National Institute on Disability and Rehabilitation Research

AGENCY: Office of Special Education and Rehabilitative Services, Department of Education.

ACTION: Notice of proposed priority and selection criterion.

SUMMARY: The Assistant Secretary for Special Education and Rehabilitative Services proposes a priority for Collaborative Research Projects in Traumatic Brain Injury (TBI) under the Disability and Rehabilitation Research Projects (DRRP) Program under the National Institute on Disability and Rehabilitation Research (NIDRR). The Assistant Secretary may use this priority for competitions in fiscal year (FY) 2003 and later years. We take this action to focus research attention on an identified national need. We intend this priority to improve rehabilitation services and outcomes for individuals with disabilities.

DATES: We must receive your comments on or before May 16, 2003.

ADDRESSES: Address all comments about this proposed priority to Donna Nangle, U.S. Department of Education, 400 Maryland Avenue, SW., room 3412, Switzer Building, Washington, DC 20202-2645. If you prefer to send your comments through the Internet, use the following address: donna.nangle@ed.gov.

FOR FURTHER INFORMATION CONTACT: Donna Nangle. Telephone: (202) 205-5880.

If you use a telecommunications device for the deaf (TDD), you may call the TDD number at (202) 205-4475 or via the Internet: donna.nangle@ed.gov.

Individuals with disabilities may obtain this document in an alternative format (e.g., Braille, large print, audiotape, or computer diskette) on request to the contact person listed under FOR FURTHER INFORMATION CONTACT.

SUPPLEMENTARY INFORMATION:

Invitation to Comment

We invite you to submit comments regarding this proposed priority.

We invite you to assist us in complying with the specific requirements of Executive Order 12866 and its overall requirement of reducing regulatory burden that might result from this proposed priority. Please let us know of any further opportunities we should take to reduce potential costs or increase potential benefits while preserving the effective and efficient administration of the program.

During and after the comment period, you may inspect all public comments about this priority in Room 3412, Switzer Building, 330 C Street, SW., Washington, DC, between the hours of 8:30 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for this proposed priority. If you want to schedule an appointment for this type of aid, please contact the person listed under FOR FURTHER INFORMATION CONTACT.

We will announce the final priority in a notice in the Federal Register. We will determine the final priority after considering responses to this notice and other information available to the Department. This notice does not preclude us from proposing or funding additional priorities, subject to meeting applicable rulemaking requirements.

Note: This notice does not solicit applications. In any year in which we choose to use this proposed priority, we invite applications through a notice published in the Federal Register.

When inviting applications we designate each priority as absolute, competitive preference, or invitational. The effect of each type of priority follows:

Absolute priority: Under an absolute priority, we consider only applications that meet the priority (34 CFR 75.105(c)(3)).

Competitive preference priority: Under a competitive preference priority, we give competitive preference to an application by either (1) awarding additional points, depending on how well or the extent to which the application meets the priority (34 CFR 75.105(c)(2)(i)); or (2) selecting an application that meets the competitive priority over an application of comparable merit that does not meet the competitive priority (34 CFR 75.105(c)(2)(ii)).

Invitational priority: Under an invitational priority, we are particularly interested in applications that meet the invitational priority. However, we do not give an application that meets the priority a competitive or absolute preference over other applications (34 CFR 75.105(c)(1)).

Note: The proposed priority supports President Bush's New Freedom Initiative (NFI). The NFI can be accessed on the Internet at the following site: http://www.whitehouse.gov/news/freedominitiative/freedominitiative.html.

The proposed priority is also in concert with NIDRR's Long-Range Plan (the Plan), which can be accessed on the Internet at the following site: http://www.ed.gov/offices/OSERS/NIDRR/Products.

Through the implementation of the NFI and the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms for integrating research and practice; and (6) disseminate findings.

Disability and Rehabilitation Research Projects (DRRP) Program

The purpose of the DRRP Program is to plan and conduct research, demonstration projects, training, and related activities that help to maximize the full inclusion and integration of individuals with disabilities into society and to improve the effectiveness of services authorized under the Rehabilitation Act of 1973, as amended (the Act). An applicant for assistance under this program must demonstrate in its application how it will address, in whole or in part, the needs of individuals with disabilities from minority backgrounds (34 CFR 350.40(a)). The approaches an applicant may take to meet this requirement are found in 34 CFR 350.40(b).

General DRRP Requirements

• Involve, as appropriate, individuals with disabilities or their family members, or both, and persons who are members of groups that have traditionally been underrepresented in all aspects of the research as well as in design of clinical services and dissemination activities.

• Demonstrate knowledge of culturally appropriate methods of data collection, including understanding of culturally sensitive measurement approaches.

• Collaborate with other related projects, including the other funded Traumatic Brain Injury Model Systems (TBIMS) projects.

Priority

Background

In 1987, NIDRR established the TBI Model System (TBIMS) program by funding four projects to provide comprehensive, multidisciplinary rehabilitation services to persons who experience TBI and to conduct research to foster advances in TBI rehabilitation. Most recently, in FY 2002, NIDRR funded 16 TBIMS projects. The focus of these projects is research on interventions to improve outcomes for individuals who experience TBI. Contact information and abstracts on these 16 TBI Model Systems can be found at the National Rehabilitation Information Center (NARIC), http://www.naric.com/search/pd/browse.html, by scrolling down to the Health and Function chapter, and clicking on the link to the TBI projects.

The TBIMS projects serve a substantial number of individuals, allowing the projects to conduct clinical and community-based research and program evaluation. In addition, TBIMS projects contribute data on model systems patients to the TBI National Data Base maintained by the TBI National Data Center (http://www.tbindc.org) housed at Kessler Medical Rehabilitation Research and Education Corporation. Information is currently collected throughout the rehabilitation process, including points following discharge from the rehabilitation facility allowing for long-term follow-up of persons with TBI. There are currently over 3500 cases in this database.

As discussed, TBI model systems projects provide care to TBI survivors, contribute to the national database, and conduct focused research projects. NIDRR seeks to build upon the capacity within the model systems by providing funding to support large-scale collaborative research projects such as randomized trials or observational research that requires large sample sizes. These collaborative research efforts must include at least three existing model systems projects, but may also include non-model systems entities. You may obtain additional information about the background of this priority by contacting the person listed under FOR FURTHER INFORMATION CONTACT.

Proposed Priority

The Assistant Secretary proposes to fund Traumatic Brain Injury collaborative research projects for the purpose of generating new knowledge through research to improve treatment and services delivery outcomes for persons with TBI. A collaborative research project must:

(1) Collaborate with three or more of the 16 NIDRR TBI Model Systems projects;

(2) Conduct research on questions of significance to TBI rehabilitation, using clearly identified research designs such as randomized control trials, observational research methodologies, or longitudinal studies. The research must focus on areas identified in the NFI and the Plan, ensuring that each project has sufficient sample size and methodological rigor to generate robust findings.

(3) Areas of interest include health and function, technology for function, community integration and independent living, employment, and long-term outcomes.

(4) Disseminate research findings to clinical and consumer audiences, using accessible formats.

(5) Evaluate impact of research findings on improved outcomes for persons with TBI.

Proposed Selection Criterion

The emphasis on research rigor plus the importance of the collaborative research program require a modification to the selection criteria for this program. The Secretary proposes to add a criterion to reflect increased emphasis on research management. This criterion reads as follows: There must be a clearly delineated plan for research management, with focus on quality controls for data collection, management of research protocols, and provisions for oversight at collaborating sites.

Executive Order 12866

This notice of proposed priority has been reviewed in accordance with Executive Order 12866. Under the terms of the order, we have assessed the potential costs and benefits of this regulatory action.

The potential costs associated with the notice of proposed priority are those resulting from statutory requirements and those we have determined as necessary for administering this program effectively and efficiently.

In assessing the potential costs and benefits—both quantitative and qualitative—of this notice of proposed priority, we have determined that the benefits of the proposed priority justify the costs.

Summary of potential costs and benefits: The potential cost associated with this proposed priority is minimal while the benefits are significant. Grantees may anticipate costs associated with completing the application process in terms of staff time, copying, and mailing or delivery. The use of e-Application technology reduces mailing and copying costs significantly.

The benefits of the TBIMS and collaborative projects have been well established over the years that similar projects have been completed. This proposed priority will generate new knowledge through research to improve treatment and services delivery outcomes for persons with TBI through collaborative research projects.

The benefit of this proposed priority and proposed application and project requirements will be the establishment of new collaborative projects that support the President's NFI.

Applicable Program Regulations: 34 CFR part 350.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is published in the Federal Register. Free Internet access to the official edition of the Federal Register and the Code of Federal Regulations is available on GPO Access at: http://www.access.gpo.gov/nara/index.html.

(Catalog of Federal Domestic Assistance Number 84.133A, Disability Rehabilitation Research Project)

Program Authority: 29 U.S.C. 762(g) and 764(b).

Dated: April 11, 2003.
Robert H. Pasternack,
Assistant Secretary for Special Education and Rehabilitative Services.

[FR Doc. 03-9306 Filed 4-15-03; 8:45 am]

BILLING CODE 4000-01-P